ENVIRONMENTAL PROTECTION AGENCY

40 CFR Part 52

[EPA-R07-OAR-2015-0103 FRL-9926-85-Region 7]

Approval and Promulgation of Air Quality Implementation Plans; Iowa; Update to Materials Incorporated by Reference

AGENCY: Environmental Protection Agency (EPA).

ACTION: Final rule; notice of administrative change.

SUMMARY: The Environmental Protection Agency (EPA) is updating the materials submitted by Iowa that are incorporated by reference (IBR) into the state implementation plan (SIP). EPA is also notifying the public of the correction of certain typographical errors within the IBR table. The regulations affected by this update have been previously submitted by the state agency and approved by EPA. This update affects the SIP materials that are available for public inspection at the National Archives and Records Administration (NARA), and the Regional Office.

DATES: This rule is effective on August 14, 2015.

ADDRESSES: SIP materials which are incorporated by reference into 40 CFR part 52 are available for inspection at the following locations: Environmental Protection Agency, Region 7, 11201 Renner Boulevard, Lenexa, Kansas 66219; or at http://www.epa.gov/region07/air/rules/fedapprv.htm; For information on the availability of this material at NARA, call (202) 741-6030, or go to: www.archives.gov/federal-register/cfr/ibr-locations.html.

FOR FURTHER INFORMATION CONTACT: Jan Simpson at (913) 551-7089, or by email at simpson.jan@epa.gov.

SUPPLEMENTARY INFORMATION:

I. Background

The SIP is a living document which the state revises as necessary to address the unique air pollution problems in the state. Therefore, EPA from time to time must take action on SIP revisions containing new and/or revised regulations to make them part of the SIP. On May 22, 1997 (62 FR 27968), EPA revised the procedures for incorporating by reference Federally-approved SIPs, as a result of consultations between EPA and the Office of Federal Register. The description of the revised SIP document, IBR procedures and “Identification of plan” format are discussed in further detail in the May 22, 1997, Federal Register document.

On February 12, 1999, EPA published a document in the Federal Register (64 FR 7091) beginning the new IBR procedure for Iowa. On September 23, 2004 (69 FR 56942), and on July 29, 2009, (74 FR 37556) EPA published an update to the IBR material for Iowa.

In this document, EPA is publishing an updated set of tables listing the regulatory (i.e., IBR) materials in the Iowa SIP taking into account the additions, deletions, and revisions to those materials previously submitted by the state agency and approved by EPA. We are removing the EPA Headquarters Library from paragraph (b)(3), as IBR materials are no longer available at this location. In addition, EPA has found errors in certain entries listed in 40 CFR 52.820(c), as amended in the published IBR update actions listed above, and is correcting them in this document. Table (c) revisions include:

• Adding the inadvertent omission of the following explanation to the explanation column for 567.22.1 (Permits Required for New or Existing Stationary Sources): In 22.1(3) the following sentence regarding electronic submission is not SIP approved. The sentence is “Alternatively, the owner or operator may apply for a construction permit for a new or modified stationary source through the electronic submittal format specified by the department”.

• Adding the inadvertent omission of the following explanation to the explanation column for 567-22.3 (Issuing Permits): Subrule 22.3(6) has not been approved as part of the SIP. Subrule 22.3(6), Limits on Hazardous Air Pollutants, has been approved under Title V and section 112(l). The remainder of the rule has not been approved pursuant to Title V and section 112(l).

• 567.22.105 (Title V Permit Applications): Correcting the state effective date, correcting the EPA approval date column to the correct date and Federal Register citation, and adding the inadvertent omission of the following explanation to the explanation column: In 22.105(1) Duty to apply the last sentence “Alternatively, an owner or operator may submit a complete and timely application through the electronic submittal format specified by the department.” is not approved. In 22.105(1) “a” new subparagraph (9) is not approved.

• Adding the inadvertent omission of the following explanation to the explanation column for 567-23.1 (Emission Standards): Sections 23.1(2)-(5) are not approved in the SIP. Section 23.1(5) is approved as part of the 111(d) plan.

Table (e) revisions include:

• Adding text in the explanation column for (4)-(39).

II. EPA Action

In this action, EPA is doing the following:

A. Announcing the update to the IBR material as of December 31, 2014;

B. Revising the entry in paragraph 52.820(b) to reflect the update and corrections;

C. Revising certain entries in paragraph 52.820 (c) as described above;

D. Correcting the date format in the “State effective date” or “State submittal date” and “EPA approval date” columns in paragraphs 52.820 (c), (d) and (e). Dates are numerical month/day/year without additional zeros;

E. Modifying the Federal Register citation in paragraphs 52.820 (c), (d) and (e) to reflect the beginning page of the preamble as opposed to the page number of the regulatory text.

EPA has determined that today's rule falls under the “good cause” exemption in section 553(b)(3)(B) of the Administrative Procedures Act (APA) which, upon finding “good cause,” authorizes agencies to dispense with public participation and section 553(d)(3), which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by providing notice of the updated Iowa SIP compilation.

Statutory and Executive Order Reviews

In this rule, EPA is finalizing regulatory text that includes incorporation by reference. In accordance with requirements of 1 CFR 51.5, EPA is finalizing the incorporation by reference of the Iowa regulations described in the amendments to 40 CFR part 52 set forth below. EPA has made, and will continue to make, these documents generally available electronically through www.regulations.gov and/or in hard copy at the appropriate EPA office (see the ADDRESSES section of this preamble for more information).

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” under the terms of Executive Order 12866 (58 FR 51735, October 4, 1993) and is therefore not subject to review under Executive Orders 12866 and 13563 (76 FR 3821, January 21, 2011).

• Does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA has also determined that the provisions of section 307(b)(1) of the CAA pertaining to petitions for judicial review are not applicable to this action. Prior EPA rulemaking actions for each individual component of the Iowa SIP compilations previously afforded interested parties the opportunity to file a petition for judicial review in the United States Court of Appeals for the appropriate circuit within 60 days of such rulemaking action. Thus, EPA sees no need in this action to reopen the 60-day period for filing such petitions for judicial review for this “Identification of plan” reorganization update action for the State of Iowa.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 7, 2015.
Mark Hague,
Acting Regional Administrator, Region 7.

For the reasons stated in the preamble, the Environmental Protection Agency amends 40 CFR part 52 as set forth below: Chapter I, title 40 of the Code of Federal Regulations is amended as follows:

PART 52—APPROVAL AND PROMULGATION OF IMPLEMENTATION PLANS

1. The authority citation for part 52 continues to read as follows:

Authority: 42 U.S.C. 7401 et seq.

Subpart Q Iowa

2. In § 52.820, paragraphs (b), (c), (d) and (e) are revised to read as follows:

§ 52.820 Identification of plan.

* * * * *

(b) Incorporation by reference. (1) Material listed in paragraphs (c) and (d) of this section with an EPA approval date prior to December 31, 2014, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after December 31, 2014, will be incorporated by reference in the next update to the SIP compilation.

(2) EPA Region 7 certifies that the rules/regulations provided by EPA in the SIP compilation at the addresses in paragraph (b)(3) of this section are an exact duplicate of the officially promulgated state rules/regulations which have been approved as part of the SIP as of December 31, 2014.

(3) Copies of the materials incorporated by reference may be inspected at the Environmental Protection Agency, Region 7, Air Planning and Development Branch, 11201 Renner Boulevard, Lenexa, Kansas 66219; and the National Archives and Records Administration (NARA). If you wish to obtain material from the EPA Regional Office, please call (913) 551-7089. For information on the availability of this material at NARA, call (202) 741-6030, or go to: www.archives.gov/federal-register/cfr/ibr-locations.html.

(c) EPA-approved regulations.

EPA-Approved Iowa Regulations
Iowa citation | Title | State effective date | EPA approval date | Explanation
Iowa Department of Natural Resources Environmental Protection Commission [567]
Chapter 20—Scope of Title—Definitions—Forms—Rule of Practice
567-20.1 | Scope of Title | 1/15/14 | 5/15/14, 79 FR 27763 | This rule is a non-substantive description of the Chapters contained in the Iowa rules. EPA has not approved all of the Chapters to which this rule refers.
567-20.2 | Definitions | 04/22/15 | 8/10/15, 80 FR 33192
567-20.3 | Air Quality Forms Generally | 04/22/15 | 8/10/15, 80 FR 33192
Chapter 21—Compliance
567-21.1 | Compliance Schedule | 7/12/06 | 8/6/07, 72 FR 43539
567-21.2 | Variances | 4/4/07 | 10/16/07, 72 FR 58535
567-21.3 | Emission Reduction Program | 3/14/90 | 6/29/90, 55 FR 26690
567-21.4 | Circumvention of Rules | 3/14/90 | 6/29/90, 55 FR 26690
567-21.5 | Evidence Used in Establishing That a Violation Has or Is Occurring | 11/16/94 | 10/30/95, 60 FR 55198
567-21.6 | Temporary Electricity Generation for Disaster Situations | 10/15/08 | 12/29/09, 74 FR 68692
Chapter 22—Controlling Pollution
567-22.1 | Permits Required for New or Existing Stationary Sources | 4/22/15 | 8/10/15, 80 FR 33192 | In 22.1(3) the following sentence regarding electronic submission is not SIP approved. The sentence is “Alternatively, the owner or operator may apply for a construction permit for a new or modified stationary source through the electronic submittal format specified by the department”.
567-22.2 | Processing Permit Applications | 4/22/15 | 8/10/15, 80 FR 33192
567-22.3 | Issuing Permits | 10/24/12 | 1/16/14, 79 FR 2787 | Subrule 22.3(6) has not been approved as part of the SIP. Subrule 22.3(6), Limits on Hazardous Air Pollutants, has been approved under Title V and section 112(l). The remainder of the rule has not been approved pursuant to Title V and section 112(l).
567-22.4 | Special Requirements for Major Stationary Sources Located in Areas Designated Attainment or Unclassified (PSD) | 6/11/08 | 12/29/09, 74 FR 68692
567-22.5 | Special Requirements for Nonattainment Areas | 1/15/14 | 5/15/14, 79 FR 27763 | Rescinded and moved to 567-31.20.
567-22.8 | Permits by Rule | 10/23/13 | 5/14/14, 79 FR 27490
567-22.9 | Special Requirements for Visibility Protection | 11/11/09 | 10/25/13, 78 FR 63887
567-22.10 | Permitting Requirements for Country Grain Elevators, Country Grain Terminal Elevators, Grain Terminal Elevators and Feed Mill Equipment | 9/10/14 | 8/10/15, 80 FR 33192
567-22.105 | Title V Permit Applications | 11/11/09 | 10/25/13, 78 FR 63887 | Only subparagraph (2)i(5) is approved as part of the SIP. In 22.105(1) Duty to apply the last sentence “Alternatively, an owner or operator may submit a complete and timely application through the electronic submittal format specified by the department.” is not approved. In 22.105(1) “a” new subparagraph (9) is not approved.
567-22.200 | Definitions for Voluntary Operating Permits | 10/18/95 | 4/30/96, 61 FR 18958
567-22.201 | Eligibility for Voluntary Operating Permits | 4/4/07 | 10/16/07, 72 FR 58535
567-22.202 | Requirement to Have a Title V Permit | 4/9/97 | 6/25/98, 63 FR 34600
567-22.203 | Voluntary Operating Permit Applications | 11/11/09 | 10/25/13, 78 FR 63887
567-22.204 | Voluntary Operating Permit Fees | 12/14/94 | 4/30/96, 61 FR 18958
567-22.205 | Voluntary Operating Permit Processing Procedures | 12/14/94 | 4/30/96, 61 FR 18958
567-22.206 | Permit Content | 10/18/95 | 4/30/96, 61 FR 18958
567-22.207 | Relation to Construction Permits | 10/15/08 | 12/29/09, 74 FR 68692
567-22.208 | Suspension, Termination, and Revocation of Voluntary Operating Permits | 12/14/94 | 4/30/96, 61 FR 18958
567-22.209 | Change of Ownership for Facilities with Voluntary Operating Permits | 11/11/09 | 10/25/13, 78 FR 63887
567-22.300 | Operating permit by rule for small sources | 11/11/09 | 10/25/13, 78 FR 63887
Chapter 23—Emission Standards for Contaminants
567-23.1 | Emission Standards | 11/24/10 | 10/25/13, 78 FR 63887 | Sections 23.1(2)-(5) are not approved in the SIP. Section 23.1 (5) is approved as part of the 111(d) plan.
567-23.2 | Open Burning | 1/14/04 | 11/3/04, 69 FR 63945 | Subrule 23.2(3)g(2) was not submitted for approval. Variances from open burning rule 23.2(2) are subject to EPA approval.
567-23.3 | Specific Contaminants | 6/11/08 | 12/29/09, 74 FR 68692 | Subrule 23.3(3) “(d)” is not SIP approved.
567-23.4 | Specific Processes | 6/11/08 | 12/29/09, 74 FR 68692 | Subrule 23.4(10) is not SIP approved.
Chapter 24—Excess Emissions
567-24.1 | Excess Emission Reporting | 11/24/10 | 10/25/13, 78 FR 63887
567-24.2 | Maintenance and Repair Requirements | 3/14/90 | 6/29/90, 55 FR 26690
Chapter 25—Measurement of Emissions
567-25.1 | Testing and Sampling of New and Existing Equipment | 10/24/12 | 1/16/14, 79 FR 2787
Chapter 26—Prevention of Air Pollution Emergency Episodes
567-26.1 | General | 3/14/90 | 6/29/90, 55 FR 26690
567-26.2 | Episode Criteria | 3/14/90 | 6/29/90, 55 FR 26690
567-26.3 | Preplanned Abatement Strategies | 3/14/90 | 6/29/90, 55 FR 26690
567-26.4 | Actions During Episodes | 3/14/90 | 6/29/90, 55 FR 26690
Chapter 27—Certificate of Acceptance
567-27.1 | General | 3/14/90 | 6/29/90, 55 FR 26690
567-27.2 | Certificate of Acceptance | 3/14/90 | 6/29/90, 55 FR 26690
567-27.3 | Ordinance or Regulations | 3/14/90 | 6/29/90, 55 FR 26690
567-27.4 | Administrative Organization | 3/14/90 | 6/29/90, 55 FR 26690
567-27.5 | Program Activities | 3/14/90 | 6/29/90, 55 FR 26690
Chapter 28—Ambient Air Quality Standards
567-28.1 | Statewide Standards | 10/23/13 | 5/14/14, 79 FR 27490
Chapter 29—Qualification in Visual Determination of the Opacity of Emissions
567-29.1 | Methodology and Qualified Observer | 5/13/98 | 5/22/00, 65 FR 32030
Chapter 31—Nonattainment Areas
567-31.1 | Permit Requirements Relating to Nonattainment Areas | 1/15/14 | 5/15/14, 79 FR 27763
567-31.2 | Conformity of General Federal Actions to the Iowa SIP or Federal Implementation Plan | 1/15/14 | 5/15/14, 79 FR 27763
567-31.3 | Nonattainment new source review requirements for areas designated nonattainment on or after May 18, 1998 | 1/15/14 | 5/15/14, 79 FR 27763
567-31.4 | Preconstruction review permit program | 1/15/14 | 5/15/14, 79 FR 27763
567-31.9 | Actual PALs | 1/15/14 | 5/15/14, 79 FR 27763
567-31.10 | Validity of Rules | 1/15/14 | 5/15/14, 79 FR 27763
567-31.20 | Special requirements for nonattainment areas designated before May 18, 1998 (originally adopted in 567-22.5(455B)) | 4/22/15 | 8/10/15, 80 FR 33192
Chapter 33—Special Regulations and Construction Permit Requirements for Major Stationary Sources—Prevention of Significant Deterioration (PSD) of Air Quality
567-33.1 | Purpose | 1/15/14 | 5/15/14, 79 FR 27763
567-33.3 | Special construction permit requirements for major stationary sources in areas designated attainment or unclassified (PSD) | 4/22/14 | 8/10/15, 80 FR 33192
567-33.9 | Plantwide applicability limitations (PALs) | 11/1/06 | 5/14/07, 72 FR 27056
567-33.10 | Exceptions to adoption by reference | 11/1/06 | 5/14/07, 72 FR 27056
Chapter 34—Provisions for Air Quality Emissions Trading Programs
567-34.1 | Purpose | 7/12/06 | 8/6/07, 72 FR 43539
567-34.201 | CAIR NOX annual trading program provisions | 11/28/07 | 4/15/08, 73 FR 20177
567-34.202 | CAIR designated representative for CAIR NOX sources | 7/12/06 | 8/6/07, 72 FR 43539
567-34.203 | Permits | 7/12/06 | 8/6/07, 72 FR 43539
567-34.205 | CAIR NOX allowance allocations | 7/12/06 | 8/6/07, 72 FR 43539
567-34.206 | CAIR NOX allowance tracking system | 7/12/06 | 8/6/07, 72 FR 43539
567-34.207 | CAIR NOX allowance transfers | 7/12/06 | 8/6/07, 72 FR 43539
567-34.208 | Monitoring and reporting | 7/12/06 | 8/6/07, 72 FR 43539
567-34.209 | CAIR NOX opt-in units | 7/12/06 | 8/6/07, 72 FR 43539
567-34.210 | CAIR SO2 trading program | 11/28/07 | 4/15/08, 73 FR 20177
567-34.220 | CAIR NOX ozone season trading program | 7/12/06 | 8/6/07, 72 FR 43539
567-34.221 | CAIR NOX ozone season trading program general | 11/28/07 | 4/15/08, 73 FR 20177
567-34.222 | CAIR designated representative for CAIR NOX ozone season sources | 7/12/06 | 8/6/07, 72 FR 43539
567-34.223 | CAIR NOX ozone season permits | 7/12/06 | 8/6/07, 72 FR 43539
567-34.225 | CAIR NOX ozone season allowance allocations | 7/12/06 | 8/6/07, 72 FR 43539
567-34.226 | CAIR NOX ozone season allowance tracking system | 7/12/06 | 8/6/07, 72 FR 43539
567-34.227 | CAIR NOX ozone season allowance transfers | 7/12/06 | 8/6/07, 72 FR 43539
567-34.228 | CAIR NOX ozone season monitoring and reporting | 7/12/06 | 8/6/07, 72 FR 43539
567-34.229 | CAIR NOX ozone season opt-in units | 7/12/06 | 8/6/07, 72 FR 43539
Linn County
Chapter 10 | Linn County Air Quality Ordinance, Chapter 10 | 1/30/15 | 9/28/15, 80 FR 44870 | The following definitions are not SIP-approved in Chapter 10.2; Anaerobic lagoon, Biomass, Chemical processing plants (ethanol production facilities that produce ethanol by natural fermentation included in NAICS code 325193 or 312140 are not included in this definition); Federally Enforceable; Greenhouse gases; Maximum Achievable Control Technology (MACT); MACT floor. The following sections are not SIP approved: 10.4(1), Title V Permits; 10.5(9)“b” Locally Required Permits; Exemptions from the Authorization to Install Permit to Operate Requirements; 10.5(9) “ll”, Exemption for production painting, adhesive or coating units; 10.8(2)“b” Emissions From Fuel-Burning Equipment; Emission Limitation; 10.8(3) Emissions From Fuel-Burning Equipment; Exemptions for Residential Heaters Burning Solid Fuels; 10.8(4) Emissions from Fuel-Burning Equipment; Nuisance Conditions for Fuel Burning Equipment; 10.9(2), NSPS; 10.9(3), Emission Standards for HAPs; 10.9(4), Emission Standards for HAPs for Source Categories; 10.10(4) Variance from rules; 10.11, Emission of Objectionable Odors; 10.15, Variances, 10.17(13) Continuous Emissions Monitoring from Acid Rain Program 10.17(13) Continuous Emissions Monitoring from Acid Rain Program, and 10.24, Penalty.
Polk County
Chapter V | Polk County Board of Health Rules and Regulations Air Pollution Chapter V | 08/06/09 | 7/06/10, 75 FR 38745 | Article I, Section 5-2, definition of “variance”; Article VI, Sections 5-16(n), (o) and (p); Article VIII; Article IX, Sections 5-27(3) and (4); Article X, Section 5-28 subsections (a) through (c); Article XIII, and Article XVI, Section 5-75 are not a part of the SIP.

(d) EPA-approved State source-specific permits.

EPA-Approved Iowa Source-Specific Orders/Permits
Name of source | Order/Permit No. | State effective date | EPA Approval date | Explanation
(1) Archer-Daniels Midland Company | 90-AQ-10 | 3/25/91 | 11/1/91, 56 FR 56158 |
(2) Interstate Power Company | 89-AQ-04 | 2/21/90 | 11/1/91, 56 FR 56158 |
(3) Grain Processing Corporation | 74-A-015-S | 9/18/95 | 12/1/97, 62 FR 63454 |
(4) Grain Processing Corporation | 79-A-194-S | 9/18/95 | 12/1/97, 62 FR 63454 |
(5) Grain Processing Corporation | 79-A-195-S | 9/18/95 | 12/1/97, 62 FR 63454 |
(6) Grain Processing Corporation | 95-A-374 | 9/18/95 | 12/1/97, 62 FR 63454 |
(7) Muscatine Power and Water | 74-A-175-S | 9/14/95 | 12/1/97, 62 FR 63454 |
(8) Muscatine Power and Water | 95-A-373 | 9/14/95 | 12/1/97, 62 FR 63454 |
(9) Monsanto Corporation | 76-A-161S3 | 7/18/96 | 12/1/97, 62 FR 63454 |
(10) Monsanto Corporation | 76-A-265S3 | 7/18/96 | 12/1/97, 62 FR 63454 |
(11) IES Utilities, Inc | 97-AQ-20 | 11/20/98 | 3/11/99, 64 FR 12087 | SO2 Control Plan for Cedar Rapids.
(12) Archer-Daniels-Midland Corporation | SO2 Emission Control Plan | 9/14/98 | 3/11/99, 64 FR 12087 | ADM Corn Processing SO2 Control Plan for Cedar Rapids.
(13) Linwood Mining and Minerals Corporation | 98-AQ-07 | 3/13/98 | 3/18/99, 64 FR 13343 | PM10 control plan for Buffalo.
(14) Lafarge Corporation | 98-AQ-08 | 3/13/98 | 3/18/99, 64 FR 13343 | PM10 control plan for Buffalo.
(15) Holnam, Inc | A.C.O. 1999-AQ-31 | 9/2/99 | 11/6/02, 67 FR 67563 | For a list of the 47 permits issued for individual emission points see IDNR letters to Holnam, Inc., dated 7/24/01.
(16) Holnam, Inc | Consent Amendment to A.C.O. 1999-AQ-31 | 5/16/01 | 11/6/02, 67 FR 67563 | For a list of the 47 permits issued for individual emission points see IDNR letters to Holnam, Inc., dated 7/24/01.
(17) Holnam, Inc | Permits for 17-01-009, Project Nos. 99-511 and 00-468. | 7/24/01 | 11/6/02, 67 FR 67563 | For a list of the 47 permits issued for individual emission points see IDNR letters to Holnam, Inc., dated 7/24/01.
(18) Lehigh Portland Cement Company | A.C.O. 1999-AQ-32 | 9/2/99 | 11/6/02, 67 FR 67563 | For a list of the 41 permits issued for individual emission points see IDNR letters to Lehigh dated 7/24/01 and 2/18/02.
(19) Lehigh Portland Cement Company | Permits for plant No. 17-01-005, Project Nos. 99-631 and 02-037 | 2/18/02 | 11/6/02, 67 FR 67563 | For a list of the 41 permits issued for individual emission points see IDNR letters to Lehigh dated 7/24/01 and 2/18/02.
(20) Blackhawk Foundry and Machine Company | A.C.O. 03-AQ-51 | 12/4/03 | 6/10/04, 69 FR 32454 | Together with the permits listed below this order comprises the PM10 control strategy for Davenport, Iowa.
(21) Blackhawk Foundry and Machine Company | Permit No. 02-A-116 (Cold Box Core Machine) | 8/19/02 | 6/10/04, 69 FR 32454 | Provisions of the permit that relate to pollutants other than PM10 are not approved by EPA as part of this SIP.
(22) Blackhawk Foundry and Machine Company | Permit No. 02-A-290(Wheelabrator #2 and Casting Sorting) | 8/19/02 | 6/10/04, 69 FR 32454 | Provisions of the permit that relate to pollutants other than PM10 are not approved by EPA as part of this SIP.
(23) Blackhawk Foundry and Machine Company | Permit No. 02-A-291 (Mold Sand Silo) | 8/19/02 | 6/10/04, 69 FR 32454 | Provisions of the permit that relate to pollutants other than PM10 are not approved by EPA as part of this SIP.
(24) Blackhawk Foundry and Machine Company | Permit No. 02-A-292 (Bond Storage) | 8/19/02 | 6/10/04, 69 FR 32454 | Provisions of the permit that relate to pollutants other than PM10 are not approved by EPA as part of this SIP.
(25) Blackhawk Foundry and Machine Company | Permit No. 02-A-293 (Induction Furnace and Aluminum Sweat Furnace) | 8/19/02 | 6/10/04, 69 FR 32454 | Provisions of the permit that relate to pollutants other than PM10 are not approved by EPA as part of this SIP.
(26) Blackhawk Foundry and Machine Company | Permit No. 77-A-114-S1 (Wheelabrator #1 & Grinding) | 8/19/02 | 6/10/04, 69 FR 32454 | Provisions of the permit that relate to pollutants other than PM10 are not approved by EPA as part of this SIP.
(27) Blackhawk Foundry and Machine Company | Permit No. 84-A-055-S1 (Cupola ladle, Pour deck ladle, Sand shakeout, Muller, Return sand #1, Sand cooler, Sand screen, and Return sand #2) | 8/19/02 | 6/10/04, 69 FR 32454 | Provisions of the permit that relate to pollutants other than PM10 are not approved by EPA as part of this SIP.
(28) Blackhawk Foundry and Machine Company | Permit No. 72-A-060-S5 (Cupola) | 8/19/02 | 6/10/04, 69 FR 32454 | Provisions of the permit that relate to pollutants other than PM10 are not approved by EPA as part of this SIP.
(29) Grain Processing Corporation | Administrative Consent Order NO.2014-AQ-A1 | 2/14/14 | 12/1/14, 79 FR 71025 | The last sentence of Paragraph 5, Section III and Section VI are not approved by EPA as part of the SIP.
(30) Muscatine Power and Water | Permit No. 74-A-175-S3 | 7/22/13 | 12/1/14, 79 FR 71025 |
(31) Muscatine Power and Water | Permit No. 80-A-006-S3 | 7/22/13 | 12/1/14, 79 FR 71025 |
(32) Muscatine Power and Water | Permit No. 80-A-007-S3 | 7/22/13 | 12/1/14, 79 FR 71025 |
(33) Muscatine Power and Water | Permit No. 80-A-191-P2 | 7/22/13 | 12/1/14, 79 FR 71025 |
(34) Muscatine Power and Water | Permit No. 80-A-193-S3 | 7/22/13 | 12/1/14, 79 FR 71025 |
(35) Muscatine Power and Water | Permit No. 80-A-194-S3 | 7/22/13 | 12/1/14, 79 FR 71025 |
(36) Muscatine Power and Water | Permit No. 80-A-197-S2 | 7/22/13 | 12/1/14, 79 FR 71025 |
(37) Muscatine Power and Water | Permit No. 80-A-200-S1 | 7/22/13 | 12/1/14, 79 FR 71025 |
(38) Muscatine Power and Water | Permit No. 80-A-201-S1 | 7/22/13 | 12/1/14, 79 FR 71025 |
(39) Muscatine Power and Water | Permit No. 80-A-202-S2 | 7/22/13 | 12/1/14, 79 FR 71025 |
(40) Muscatine Power and Water | Permit No. 93-A-283-S2 | 7/22/13 | 12/1/14, 79 FR 71025 |
(41) Muscatine Power and Water | Permit No. 93-A-288-S3 | 7/22/13 | 12/1/14, 79 FR 71025 |
(42) Muscatine Power and Water | Permit No. 93-A-289-S3 | 7/22/13 | 12/1/14, 79 FR 71025 |
(43) Muscatine Power and Water | Permit No. 93-A-290-S3 | 7/22/13 | 12/1/14, 79 FR 71025 |
(44) Muscatine Power and Water | Permit No. 93-A-373-P2 | 7/22/13 | 12/1/14, 79 FR 71025 |
(45) Muscatine Power and Water | Permit No. 00-A-638-S3 | 7/22/13 | 12/1/14, 79 FR 71025 |
(46) Muscatine Power and Water | Permit No. 00-A-639-S1 | 7/22/13 | 12/1/14, 79 FR 71025 |
(47) Muscatine Power and Water | Permit No. 00-A-689-S1 | 7/22/13 | 12/1/14, 79 FR 71025 |
(48) Muscatine Power and Water | Permit No. 00-A-684-S1 | 7/22/13 | 12/1/14, 79 FR 71025 |
(49) Muscatine Power and Water | Permit No. 00-A-686-S1 | 7/22/13 | 12/1/14, 79 FR 71025 |
(50) Muscatine Power and Water | Permit No. 00-A-687-S1 | 7/22/13 | 12/1/14, 79 FR 71025 |
(51) Muscatine Power and Water | Permit No. 01-A-193-S2 | 7/22/13 | 12/1/14, 79 FR 71025 |
(52) Muscatine Power and Water | Permit No. 01-A-218-S1 | 7/22/13 | 12/1/14, 79 FR 71025 |
(53) Muscatine Power and Water | Permit No. 01-A-456-S1 | 7/22/13 | 12/1/14, 79 FR 71025 |
(54) Muscatine Power and Water | Permit No. 01-A-617-S1 | 7/22/13 | 12/1/14, 79 FR 71025 |
(55) Muscatine Power and Water | Permit No. 04-A-618-S1 | 7/22/13 | 12/1/14, 79 FR 71025 |
(56) Muscatine Power and Water | Permit No. 04-A-619-S1 | 7/22/13 | 12/1/14, 79 FR 71025 |
(57) Muscatine Power and Water | Permit No. 11-A-562-S1 | 7/22/13 | 12/1/14, 79 FR 71025 |
(58) Muscatine Power and Water | Permit No. 13-A-139 | 7/23/13 | 12/1/14, 79 FR 71025 |
(59) Muscatine Power and Water | Permit No. 13-A-140 | 7/23/13 | 12/1/14, 79 FR 71025 |
(60) Muscatine Power and Water | Permit No. 13-A-141 | 7/23/13 | 12/1/14, 79 FR 71025 |
(61) Muscatine Power and Water | Permit No. 13-A-142 | 7/22/13 | 12/1/14, 79 FR 71025 |
(62) Muscatine Power and Water | Permit No. 13-A-143 | 7/22/13 | 12/1/14, 79 FR 71025 |
(63) Muscatine Power and Water | Permit No. 13-A-146 | 7/22/13 | 12/1/14, 79 FR 71025 |
(64) Muscatine Power and Water | Permit No. 13-A-147 | 7/22/13 | 12/1/14, 79 FR 71025 |
(65) Muscatine Power and Water | Permit No. 13-A-148 | 7/22/13 | 12/1/14, 79 FR 71025 |
(66) Muscatine Power and Water | Permit No. 13-A-150 | 7/22/13 | 12/1/14, 79 FR 71025 |
(67) Muscatine Power and Water | Permit No. 13-A-151 | 7/22/13 | 12/1/14, 79 FR 71025 |
(68) Muscatine Power and Water | Permit No. 13-A-152 | 7/22/13 | 12/1/14, 79 FR 71025 |
(69) Muscatine Power and Water | Permit No. 13-A-153 | 7/22/13 | 12/1/14, 79 FR 71025 |
(70) Muscatine Power and Water | Permit No. 13-A-154 | 7/22/13 | 12/1/14, 79 FR 71025 |
(71) Muscatine Power and Water | Permit No. 13-A-155 | 7/22/13 | 12/1/14, 79 FR 71025 |
(72) Muscatine Power and Water | Permit No. 13-A-157 | 7/22/13 | 12/1/14, 79 FR 71025 |
(73) Muscatine Power and Water | Permit No. 13-A-158 | 7/22/13 | 12/1/14, 79 FR 71025 |
(74) Muscatine Power and Water | Permit No. 13-A-159 | 7/22/13 | 12/1/14, 79 FR 71025 |
(75) Muscatine Power and Water | Permit No. 13-A-161 | 7/22/13 | 12/1/14, 79 FR 71025 |
(76) Muscatine Power and Water | Permit No. 80-A-196-S3 | 7/22/13 | 12/1/14, 79 FR 71025 |
(77) Muscatine Power and Water | Permit No. 93-A-286-S4 | 7/22/13 | 12/1/14, 79 FR 71025 |
(78) Muscatine Power and Water | Permit No. 01-A-457-S4 | 7/22/13 | 12/1/14, 79 FR 71025 |
(79) Muscatine Power and Water | Permit No. 06-A-650-S2 | 7/22/13 | 12/1/14, 79 FR 71025 |
(80) Muscatine Power and Water | Permit No. 13-A-160 | 7/22/13 | 12/1/14, 79 FR 71025 |
(81) Union Tank Car Company | Permit No. 93-A-251-S5 | 4/08/13 | 12/1/14, 79 FR 71025 |
(82) Union Tank Car Company | Permit No. 93-A-252-S5 | 4/08/13 | 12/1/14, 79 FR 71025 |
(83) Union Tank Car Company | Permit No. 93-A-253-S5 | 4/08/13 | 12/1/14, 79 FR 71025 |
(84) Union Tank Car Company | Permit No. 93-A-254-S3 | 4/08/13 | 12/1/14, 79 FR 71025 |
(85) Union Tank Car Company | Permit No. 00-A-1086-S2 | 4/08/13 | 12/1/14, 79 FR 71025 |
(86) Union Tank Car Company | Permit No. 00-A-1087-S2 | 4/08/13 | 12/1/14, 79 FR 71025 |
(87) Union Tank Car Company | Permit No. 00-A-1088-S2 | 4/08/13 | 12/1/14, 79 FR 71025 |
(88) Union Tank Car Company | Permit No. 93-A-255-S7 | 4/08/13 | 12/1/14, 79 FR 71025 |
(89) Union Tank Car Company | Permit No. 96-A-629-S3 | 4/08/13 | 12/1/14, 79 FR 71025 |
(90) Union Tank Car Company | Permit No. 96-A-630-S5 | 4/08/13 | 12/1/14, 79 FR 71025 |
(91) Union Tank Car Company | Permit No. 96-A-631-S3 | 4/08/13 | 12/1/14, 79 FR 71025 |
(92) Union Tank Car Company | Permit No. 96-A-636-S3 | 4/08/13 | 12/1/14, 79 FR 71025 |
(93) Union Tank Car Company | Permit No. 00-A-529-S2 | 4/08/13 | 12/1/14, 79 FR 71025 |
(94) Union Tank Car Company | Permit No. 00-A-530-S2 | 4/08/13 | 12/1/14, 79 FR 71025 |
(95) Union Tank Car Company | Permit No. 00-A-531-S2 | 4/08/13 | 12/1/14, 79 FR 71025 |
(96) Union Tank Car Company | Permit No. 00-A-532-S2 | 4/08/13 | 12/1/14, 79 FR 71025 |
(97) Union Tank Car Company | Permit No. 00-A-533-S2 | 4/08/13 | 12/1/14, 79 FR 71025 |
(98) Union Tank Car Company | Permit No. 93-A-256-S6 | 4/08/13 | 12/1/14, 79 FR 71025 |
(99) Union Tank Car Company | Permit No. 96-A-632-S5 | 4/08/13 | 12/1/14, 79 FR 71025 |
(100) Union Tank Car Company | Permit No. 96-A-633-S5 | 4/08/13 | 12/1/14, 79 FR 71025 |
(101) Union Tank Car Company | Permit No. 96-A-634-S5 | 4/08/13 | 12/1/14, 79 FR 71025 |
(102) Union Tank Car Company | Permit No. 96-A-635-S5 | 4/08/13 | 12/1/14, 79 FR 71025 |
(103) Union Tank Car Company | Permit No. 00-A-1089-S2 | 4/08/13 | 12/1/14, 79 FR 71025 |
(104) Union Tank Car Company | Permit No. 00-A-1090-S2 | 4/08/13 | 12/1/14, 79 FR 71025 |
(105) Union Tank Car Company | Permit No. 00-A-1091-S2 | 4/08/13 | 12/1/14, 79 FR 71025 |
(106) Union Tank Car Company | Permit No. 10-A-043-S2 | 4/08/13 | 12/1/14, 79 FR 71025 |
(107) Union Tank Car Company | Permit No. 09-A-009-S2 | 4/08/13 | 12/1/14, 79 FR 71025 |
(108) Union Tank Car Company | Permit No. 09-A-010-S2 | 4/08/13 | 12/1/14, 79 FR 71025 |
(109) Union Tank Car Company | Permit No. 94-A-434-S2 | 4/08/13 | 12/1/14, 79 FR 71025 |

(e) The EPA approved nonregulatory provisions and quasi-regulatory measures.

EPA-Approved Iowa Nonregulatory Provisions
Name of nonregulatory SIP provision | Applicable geographic or nonattainment area | State submittal date | EPA Approval date | Explanation
(1) Air Pollution Control Implementation Plan | Statewide | 1/27/72 | 5/31/72, 37 FR 10842 |
(2) Request for a Two Year Extension to Meet the NAAQS | Council Bluffs | 1/27/72 | 5/31/72, 37 FR 10842 | Correction notice published 3/2/76.
(3) Revisions to Appendices D and G | Statewide | 2/2/72 | 5/31/72, 37 FR 10842 | Correction notice published 3/2/76.
(4) Source Surveillance and Record Maintenance Statements | Statewide | 4/14/72 | 3/2/76, 41 FR 8956 | [FRL 484-4].
(5) Statement Regarding Public Availability of Emissions Data | Statewide | 5/2/72 | 3/2/76, 41 FR 8956 | [FRL 484-4].
(7) Letter Describing the Certificates of Acceptance for Local Air Pollution Control Programs | Linn County, Polk County | 12/14/72 | 10/1/76, 41 FR 43406 | [FRL 616-1].
(8) High Air Pollution Episode Contingency Plan | Statewide | 6/20/73 | 10/1/76, 41 FR 43406 | [FRL 616-1].
(9) Summary of Public Hearing on Revised Rules Which Were Submitted on July 17, 1975 | Statewide | 9/3/75 | 10/1/76, 41 FR 43406 | [FRL 616-1].
(10) Air Quality Modeling to Support Sulfur Dioxide Emission Standards | Statewide | 3/4/77 | 6/1/77, 42 FR 27892 | [FRL 739-1].
(11) Nonattainment Plans | Mason City, Davenport, Cedar Rapids, Des Moines | 6/22/79 | 3/6/80, 45 FR 14561 | [FRL 1427-5].
(12) Information on VOC Sources to Support the Nonattainment Plan | Linn County | 10/8/79 | 3/6/80, 45 FR 14561 | [FRL 1427-5].
(13) Information and Commitments Pertaining to Legally Enforceable RACT Rules to Support the Nonattainment Plan | Linn County | 11/16/79 | 3/6/80, 45 FR 14561 | [FRL 1427-5].
(14) Lead Plan | Statewide | 8/19/80 | 3/20/81, 46 FR 17778 | [A-7-FRL-1776-5].
(15) Letter to Support the Lead Plan | Statewide | 1/19/81 | 3/20/81, 46 FR 17778 | [A-7-FRL-1776-5].
(16) Nonattainment Plans to Attain Secondary Standards | Mason City, Cedar Rapids, Des Moines, Davenport, Keokuk, Council Bluffs, Fort Dodge, Sioux City, Clinton, Marshalltown, Muscatine, Waterloo | 4/18/80 | 4/17/81, 46 FR 22368 | [A-7-FRL 1792-2].
(17) Information to Support the Particulate Matter Nonattainment Plan | Mason City, Cedar Rapids, Des Moines, Davenport, Keokuk, Council Bluffs, Fort Dodge, Sioux City, Clinton, Marshalltown, Muscatine, Waterloo | 9/16/80 | 4/17/81, 46 FR 22368 | [A-7-FRL 1792-2].
(18) Information to Support the Particulate Matter Nonattainment Plan | Mason City, Cedar Rapids, Des Moines, Davenport, Keokuk, Council Bluffs, Fort Dodge, Sioux City, Clinton, Marshalltown, Muscatine, Waterloo | 11/17/80 | 4/17/81, 46 FR 22368 | [A-7-FRL 1792-2].
(19) Schedule for Studying Nontraditional Sources of Particulate Matter and for Implementing the Results | Mason City, Cedar Rapids, Des Moines, Davenport, Keokuk, Council Bluffs, Fort Dodge, Sioux City, Clinton, Marshalltown, Muscatine, Waterloo | 6/26/81 | 3/5/82, 47 FR 9462 | [A-7-FRL-2057-7].
(20) Air Monitoring Strategy | Statewide | 7/15/81 | 4/12/82, 47 FR 15583 | [A-5-FRL-2076-5].
(21) Letter of Commitment to Revise Unapprovable Portions of Chapter 22 | Statewide | 5/14/85 | 9/12/85, 50 FR 37176 | [EPA Action IA 1582; A-7-FRL-2895-9].
(22) Letter of Commitment to Submit Stack Height Regulations and to Implement the EPA's Regulations until the State's Rules Are Approved | Statewide | 4/22/86 | 7/11/86, 51 FR 25199 | [EPA Action IA 2060; A-7-FRL-3046-8].
(23) Letter of Commitment to Implement the Stack Height Regulations in a Manner Consistent with the EPA's Stack Height Regulations with Respect to NSR/PSD Regulations | Statewide | 4/22/87 | 6/26/87, 52 FR 23981 | [A-7-FRL-3216-5].
(24) PM10 SIP | Statewide | 10/28/88 | 8/15/89, 54 FR 33536 | [FRL-3627-7].
(25) Letter Pertaining to NOX Rules and Analysis Which Certifies the Material Was Adopted by the State on October 17, 1990 | Statewide | 11/8/90 | 2/13/91, 56 FR 5757 | [FRL-3903-5].
(26) SO2 Plan | Clinton | 3/13/91 | 11/1/91, 56 FR 56158 | [IA-21-5182; FRL-4014-4].
(27) Letter Withdrawing Variance Provisions | Polk County | 10/23/91 | 11/29/91, 56 FR 60924 | [FRL-IA-4-1-5308; FRL-4034-5] Correction notice published 1/26/93.
(28) Letter Concerning Open Burning Exemptions | Statewide | 10/3/91 | 1/22/92, 57 FR 2472 | [IA5-1-5380; FRL-4039-5].
(29) Compliance Sampling Manual | Statewide | 1/5/93 | 5/12/93, 58 FR 27939 | [IA-8-1-5750; FRL-4618-6].
(30) Small Business Assistance Plan | Statewide | 12/22/92 | 9/27/93, 58 FR 50266 | [IA-9-1-5859; FRL-4734-5].
(31) Voluntary Operating Permit Program | Statewide | 12/8/94, 2/16/96, 2/27/96 | 4/30/96, 61 FR 18958 | [IA 003-1003, FRL-5455-4].
(32) SO2 Plan | Muscatine | 6/19/96 5/21/97 | 12/1/97, 62 FR 63454 | [IA 036-1036, FRL-5929-3].
(33) SO2 Maintenance Plan | Muscatine | 4/25/97 | 3/19/98, 63 FR 13343 | [IA 040-1040(a), FRL-5980-2].
(34) SO2 Control Plan | Cedar Rapids | 9/11/98 | 3/11/99, 64 FR 12087 | [IA 058-1058a; FRL-6308-5].
(35) PM10 Control Plan | Buffalo, Iowa | 10/1/98 | 3/18/99, 64 FR 13346 | [IA 059-1059a; FRL-6310-7].
(36) CAA 110(a)(2)(D)(i) SIP—Interstate Transport | Statewide | 11/22/06 | 3/8/07, 72 FR 10380 | [EPA-R07-OAR-2006-1015; FRL-8285-1].
(37) SO2 Maintenance Plan for the Second 10-year Period | Muscatine | 4/5/07 | 8/1/07; 72 FR 41900 | [EPA-R07-OAR-2007-0477, FRL-8448-5].
(38) CAA 110(a)(1) and (2)-Ozone Infrastructure SIP | Statewide | 6/15/07 | 3/04/08; 73 FR 11554 | [EPA-R07-OAR-2007-1180, FRL-8535-9].
(39) Regional Haze plan for the first implementation period | Statewide | 3/25/08 | 6/26/12, 77 FR 38007 | [EPA-R07-OAR-2012-0153, FRL-9688-1] § 52.842(a); Limited Approval.

[FR Doc. 2015-19588 Filed 8-13-15; 8:45 am]

BILLING CODE 6560-50-P